DEPARTMENT OF LABOR

Employment and Training Administration

[TA-W-60,688]

Lego Systems, Inc. Including Former On-Site Leased Workers of Adecco USA, Inc. Currently Employed With Staff Management, Enfield, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 16, 2007, applicable to workers of LEGO Systems, Inc., including on-site leased workers of Staff Management, Enfield, Connecticut. The notice was published in the Federal Register on February 7, 2007 (72 FR 5748).

At the request of the State agency, the Department reviewed the certification for workers of the subject firm. The workers were engaged in the assembly of LEGO toy model kits.

New information shows that in February 2006, the leased workers of Adecco USA, Inc., employed on-site at the Enfield, Connecticut location of LEGO Systems, Inc., became employees of Staff Management due to a change in contracting firms.

Accordingly, the Department is amending this certification to properly reflect this matter.

The intent of the Department's certification is to include all workers employed at LEGO Systems, Inc., Enfield, Connecticut who were adversely affected by a shift in production to Mexico.

The amended notice applicable to TA-W-60,688 is hereby issued as follows:

All workers of LEGO Systems, Inc., including former on-site leased workers of Adecco USA, Inc., currently employed with Staff Management, Enfield, Connecticut, who became totally or partially separated from employment on or after January 2, 2006, through January 16, 2009, are eligible to apply for adjustment assistance under Section 223 of the Trade Act of 1974, and are also eligible to apply for alternative trade adjustment assistance under Section 246 of the Trade Act of 1974.

Signed at Washington, DC, this 14th day of March 2007.
Richard Church,
Certifying Officer, Division of Trade Adjustment Assistance.

[FR Doc. E7-5238 Filed 3-21-07; 8:45 am]

BILLING CODE 4510-FN-P